NUCLEAR REGULATORY COMMISSION

[NRC-2022-0190]

Report on Waste Burial Charges: Changes in Decommissioning Waste Disposal Costs at Low-Level Waste Burial Facilities

AGENCY: Nuclear Regulatory Commission.

ACTION: NUREG; issuance.

SUMMARY: The U.S. Nuclear Regulatory Commission (NRC) is issuing NUREG-1307, Revision 19, “Report on Waste Burial Charges: Changes in Decommissioning Waste Disposal Costs at Low-Level Waste Burial Facilities.” This report, which is revised periodically, explains the formula acceptable to the NRC for determining the minimum decommissioning fund requirements for nuclear power reactor licensees, as required by NRC regulations. Specifically, this report provides the adjustment factor and updates the values for the labor, energy, and waste burial escalation factors of the minimum formula.

DATES: NUREG-1307, Revision 19, is available on February 17, 2023.

ADDRESSES: Please refer to NRC-2022-0190 when contacting the NRC about the availability of information regarding this document. You may obtain publicly available information related to this document using any of the following methods:

• Federal Rulemaking website: Go to https://www.regulations.gov and search for Docket ID NRC-2022-0190. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room reference staff at 1-800-397-4209, 301-415-4737, or by email to PDR.Resource@nrc.gov. NUREG-1307, Revision 19, “Report on Waste Burial Charges: Changes in Decommissioning Waste Disposal Costs at Low-Level Waste Burial Facilities” is available in ADAMS under Accession No. ML23044A207.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Emil Tabakov, Office of Nuclear Material Safety and Safeguards, U.S. Nuclear Regulatory Commission, Washington, DC 20555-0001; telephone: 301-415-6814, email: Emil.Tabakov@nrc.gov.

SUPPLEMENTARY INFORMATION:

I. Discussion

Pursuant to section 50.75 of title 10 of the Code of Federal Regulations (10 CFR), “Reporting and Recordkeeping for Decommissioning Planning,” the NRC requires nuclear power reactor licensees to adjust annually, in current year dollars, their estimate of the cost to decommission their plants. The annual updates are part of the process for providing reasonable assurance that adequate funds for decommissioning will be available when needed.

Revision 19 of NUREG-1307, “Report on Waste Burial Charges: Changes in Decommissioning Waste Disposal Costs at Low-Level Waste Burial Facilities,” modifies Revision 18 to this report issued in January 2021 (ADAMS Accession No. ML21027A302) and incorporates updates to the adjustment factor and to the labor, energy, and waste burial escalation factors of the NRC minimum decommissioning fund formula. The minimum decommissioning fund formula amounts calculated by licensees using the Barnwell low-level waste disposal facility will be impacted by a significant increase in low-level waste burial charge pricing at that site. Additionally, at the nation's three other low-level waste disposal facilities, both moderate increases in some, and decreases in other, low-level waste burial charges, coupled with moderate increases in labor rates and near doubling of energy rates for all licensees, likely will result in higher formula amounts for all licensees. Thus, based on revised low-level waste burial factors presented in this report and increases in labor and energy rates, the minimum decommissioning fund formula amounts calculated by licensees will likely reflect moderate to more substantial increases when compared to those previously reported by licensees in 2021.

II. Additional Information

The NRC published a notice in the Federal Register on November 29, 2022 (87 FR 73345) requesting public comment on draft NUREG-1307, Revision 19, “Report on Waste Burial Charges: Changes in Decommissioning Waste Disposal Costs at Low-Level Waste Burial Facilities.” The public comment period closed on December 29, 2022. The NRC received four public comments. The public comments and the NRC staff's responses are presented in a comment resolution matrix available in ADAMS under Accession No. ML23038A239. The staff considered the public comments received on the draft document in preparing final NUREG-1307, Revision 19.

Dated: February 13, 2023.
For the Nuclear Regulatory Commission.
Frederick R. Miller,
Chief, Financial Assessment Branch, Division of Rulemaking, Environmental, and Financial Support, Office of Nuclear Material Safety and Safeguards.

[FR Doc. 2023-03358 Filed 2-16-23; 8:45 am]

BILLING CODE 7590-01-P